DEPARTMENT OF AGRICULTURE

Natural Resources Conservation Service

[Docket No. NRCS-2024-0003]

Notice of Intent To Prepare an Environmental Impact Statement for the Wellsville Canyon Watershed Plan, Cache County, Utah

AGENCY: Natural Resources Conservation Service, USDA.

ACTION: Notice of intent (NOI) to prepare an environmental impact statement (EIS).

SUMMARY: The Natural Resources Conservation Service (NRCS) Utah State Office, in cooperation with the U.S. Bureau of Reclamation (USBR), the Environmental Protection Agency (EPA), and Cache Water District (project sponsor), announces its intent to prepare an EIS for the Wellsville Canyon Watershed Plan located within the Little Bear River Watershed in Cache County, Utah. The proposed Wellsville Canyon Watershed Plan will examine alternative solutions to provide flood protection and conveyance infrastructure, reduce irrigation water loss, enhance recreational facilities, and reduce erosion and nutrient loading to the Little Bear River in Wellsville and Mendon cities and portions of unincorporated Cache County. NRCS is requesting comments to identify significant issues, potential alternatives, information, and analyses relevant to the proposed action from all interested individuals, Federal and State agencies, and Tribes.

DATES: We will consider comments received by June 7, 2024. We will consider comments received after close of the comment period to the extent possible.

ADDRESSES: We invite you to submit comments in response to this notice. You may submit your comments through one of the methods below:

• Federal eRulemaking Portal: Go to http://www.regulations.gov and search for docket ID NRCS-2024-0003. Follow the online instructions for submitting comments; or

• Mail or Hand Delivery: Derek Hamilton, Water Resources Coordinator, USDA, NRCS, Utah State Office, 125 S State Street, #4010, Salt Lake City, Utah 84138. In your comments, specify the docket ID NRCS-2024-0003.

All comments received will be posted without change and made publicly available on www.regulations.gov.

FOR FURTHER INFORMATION CONTACT: Derek Hamilton; telephone: (801) 524-4560; email: derek.hamilton@usda.gov. Individuals who require alternative means for communication should contact the U.S. Department of Agriculture (USDA) Target Center at (202) 720-2600 (voice and text telephone (TTY)) or dial 711 for Telecommunications Relay service (both voice and text telephone users can initiate this call from any telephone).

SUPPLEMENTARY INFORMATION:

Purpose and Need

The purpose of this watershed plan is to prevent or reduce potential flooding in Wellsville, Mendon, and other unincorporated areas of Cache County, Utah; to provide more reliable management of agricultural water in the area; and to increase opportunities for public recreation in the watershed. Watershed planning is authorized under the Watershed Protection and Flood Prevention Act of 1954 (Pub. L. 83-566), as amended, and the Flood Control Act of 1944 (Pub. L. 78-534).

The Wellsville Canyon Watershed Plan will reduce flood risks and improve public safety in the Wellsville Canyon watershed. It will greatly reduce flooding concerns associated with intense rain-on-snow and frozen ground events within the Wellsville Canyon Watershed Plan project area. More dependable floodwater management will benefit homes, businesses, agricultural fields, roads, and public utilities in the Wellsville Canyon Watershed Plan project area.

The Wellsville Canyon Watershed Plan will implement improved culinary and agricultural water conservation techniques in the Wellsville Canyon watershed. A more efficient irrigation delivery system within Mendon City and Wellsville City will help mitigate the heavy seepage losses experienced by the current earthen canal irrigation distribution systems. The Wellsville Canyon Watershed Plan improvements will also reduce demand for the existing culinary water systems within the watershed and capital expenditures to meet peak summer irrigation demands.

The Wellsville Canyon Watershed Plan will address limited public recreational facilities and opportunities within the Wellsville Canyon watershed available for the growing population of Cache County. Recreational improvements will provide residents with a higher quality of life and will increase the public's well-being by providing new opportunities for leisure and enjoyment.

Preliminary Proposed Action and Alternatives

The objective of the EIS is to formulate and evaluate alternatives for the flood control, agricultural water management, and public recreation needs in the approximately 70,845-acre Wellsville Canyon Watershed-focused planning area. The EIS is expected to evaluate three alternatives: two action alternatives, and one no action alternative. The alternatives that may be considered for detailed analysis include:

• Alternative 1—No Action Alternative: Taking no action would consist of activities carried out if no federal action or funding were provided. This alternative would not address flooding into the canals. The canals would continue to overtop during rain-on-snow events, and flooding in the Wellsville Canyon Watershed Plan area would continue. The canals would be maintained in their existing condition as earthen channels, and irrigation conveyance within the communities of Wellsville and Mendon would be unchanged. The additional recreational access to Wellsville Reservoir would not be built, and erosion and sedimentation from the alluvial plains above the canals would continue unaltered under this alternative. The existing infrastructure would continue to operate in its current condition and would not improve flood control, conserve irrigation water, improve recreational access, or reduce watershed erosion as described above. Residents would continue to use culinary water for irrigation (that is, watering lawns and gardens), putting stress on existing water supply and infrastructure.

• Alternative 2—Proposed Action—Pipe the Canals and Improve the Lower Canal for Flood Flows: The proposed action is to enclose the Wellsville-Mendon Canal (Lower Canal) and convey water through piping in Wellsville and Mendon cities and part of unincorporated Cache County, Utah. The existing Wellsville-Mendon Canal would be improved with the addition of open channel overflow systems at 2900 South (Unincorporated Cache County) and 200 South (Mendon City). This would be accomplished through a combination of conduits and channels to convey floodwaters from the west side of Cache Valley between Wellsville and Petersboro to the natural floodplain of the Little Bear River east of the communities. This proposed action would continue to divert the water for the Wellsville-Mendon Conservation District from below Hyrum Reservoir at the existing diversion points. This proposed action would enclose and pipe a portion of the Wellsville Eastfield Canal beginning at the existing diversion at the base of Hyrum Dam and passing through Hyrum and ending in unincorporated Cache County, Utah. This proposed action would pressurize Wellsville City Irrigation Company's irrigation system within Wellsville City and within Mendon City's irrigation system managed by the Mendon North, Mendon Central, Mendon South, Mendon Second North, and Greater Mendon Irrigation companies. This proposed action would also install regulating ponds to stabilize peak demands on the pressurized irrigation systems. A new access ramp limited to non-motorized personal watercraft would be constructed at Wellsville Reservoir for recreational activities.

• Alternative 3—Line the Canal and Improve the Lower Canal for Flood Flows: All Wellsville Canyon Watershed Plan project measures would be the same as Alternative 2 with the following exceptions. Alternative 3 would line and increase the capacity of the Wellsville-Mendon Canal (Lower Canal) to carry both irrigation and flood water from the west alluvial plains between Wellsville and Petersboro in Cache County instead of enclosing and piping. This would include the reconstruction of the existing Murray Spring overflow structure and the addition of overflow structures at 2900 South in unincorporated Cache County and 200 South in Mendon City.

Summary of Expected Impacts

The EIS will be prepared as required by section 102(2)(C) of the National Environmental Policy Act of 1969 (NEPA); the Council on Environmental Quality Regulations (40 CFR parts 1500-1508); and NRCS regulations that implement NEPA in 7 CFR part 650.

An NRCS evaluation of this federally assisted action indicates that the proposed alternatives may have significant local, regional, or national impacts on the environment. Potential resource impacts include alteration or disturbance of wetlands and riparian zones, disruptions to wildlife, compaction or displacement of soils, and temporary disturbances to air quality, migratory birds, transportation routes, aesthetic resources, and water quality.

The proposed alternatives may have long-term environmental benefits, such as reduction of long-term carbon emissions due to pumping, improvement of public health and safety, increased recreational opportunities, reduction of erosion and nutrient loading into the Little Bear River, improved surface water quality, and increased surface water quantity as a result of water conservation measures. The proposed alternatives would minimize flooding by reducing flood risks and flood damages from runoff, erosion, and sediment deposition to areas downstream of the sub-basin, as well as improving agricultural water management by reducing seepage losses. It would also create new recreational opportunities for public use by providing reservoir access for non-motorized personal watercraft.

Anticipated Permits and Authorizations

The following permits and other authorizations are anticipated to be required:

• Federal Emergency Management Agency Floodplain Development Permit. Implementation of the proposed action would require coordination with the local floodplain administrator and may require a Floodplain Development Permit to ensure all development and engineering requirements for construction within the Special Flood Hazard Areas are implemented. The proposed action will require a Conditional Letter of Map Revision (CLOMR) and a Letter of Map Revision (LOMR) since the floodplain maps include the canal and flows from the benches in Zone A.

• Clean Water Act (CWA) and National Pollutant Discharge Elimination System (NPDES) Permits. The proposed action would require water quality certification under section 401 of the CWA, permitting under section 402 of the NPDES, and Section 404 of the CWA for potential Waters of the United States impacts.

• Encroachment Permit. The proposed action would require coordination and permitting with Utah Department of Transportation for temporary construction work within State and federal roadway rights-of-way.

• Utah Pollutant Discharge Elimination System (UPDES) Construction Permit. A construction permit would be required through the UPDES.

• Railroad Permits. The proposed action may require railroad permits to allow for the right of entry and crossings of the railroad.

• Stream Alteration Permit. The proposed action would require coordination and permits with the Utah Division of Water Rights for potential crossings of the Little Bear River and other natural water ways.

• National Historic Preservation Act (NHPA) Section 106. Consultation with Tribal Nations and interested parties would be conducted as required by the NHPA.

• Local Encroachment. Consultation and potential encroachment permits would be required with Wellsville City, Mendon City, and Cache County for all construction work within the local roadway rights-of-way.

Schedule of Decision-Making Process

A Draft EIS (DEIS) will be prepared and circulated for review and comment by agencies, Tribes, consulting parties, and the public for at least 45 days as required by 40 CFR 1503.1, 1502.20, 1506.11, and 1502.17, and 7 CFR 650.13. The DEIS is anticipated to be published in the Federal Register, approximately 21 months after publication of this NOI. A Final EIS is anticipated to be published within 3 months of completion of the public comment period for the DEIS.

NRCS will decide whether to implement one of the action alternatives as evaluated in the EIS. A Record of Decision will be completed after the required 30-day waiting period and will be publicly available. The responsible Federal official and decision maker for NRCS is the Utah State Conservationist.

Public Scoping Process

A virtual scoping meeting was held on May 10, 2021, at 9:00 a.m. MST. Scoping meeting presentation materials are available on NRCS' website, along with Wellsville Canyon Watershed Plan background information at https://www.nrcs.usda.gov/wellsville-mendon-watershed-sponsor-cache-water-district. The meeting included a Wellsville Canyon Watershed Plan presentation followed by a group question and answer period. Wellsville Canyon Watershed Plan team members were also available to address individual questions. Comments received, including the names and addresses of those who commented, were part of the public record.

NRCS invited Federal, State, Tribal, local agencies and representatives and the public to take part in the scoping period for the Wellsville Canyon Watershed Plan. Based on funding limitations and project scope, NRCS determined an EIS was necessary, and is seeking further public comment to help determine the range of actions, alternatives, and impacts to be evaluated and included in the EIS. NRCS will include the comments received from the previous scoping efforts into the EIS analysis.

NRCS will coordinate the scoping process to correspond with Section 106 of the NHPA (54 U.S.C. 306108), as allowed in 36 CFR 800.2(d)(3) and 800.8.

Identification of Potential Alternatives, Information, and Analyses

NRCS invites agencies, Tribes, consulting parties, and individuals that have special expertise, legal jurisdiction, or interest in the Wellsville Canyon Watershed Plan to provide written comments concerning the scope of the analysis and identification of potential alternatives, information, analyses relevant to the Proposed Action.

The information about historic and cultural resources within the area potentially affected by the proposed Wellsville Canyon Watershed Plan will assist NRCS in identifying and evaluating impacts to such resources in the context of both NEPA and NHPA.

NRCS will consult with Native American Tribes on a government-to-government basis in accordance with 36 CFR 800.2 and 800.3, Executive Order 13175, and other policies. Tribal concerns, including impacts on Indian trust assets and potential impacts to cultural resources and historic properties, will be given due consideration.

Authorities

This document is published pursuant to the NEPA regulations regarding publication of an NOI to issue an EIS (40 CFR 1501.9(d)). Watershed planning is authorized under the Watershed Protection and Flood Prevention Act of 1954, as amended, and the Flood Control Act of 1944.

Federal Assistance Programs

The title and number of the Federal Assistance Program as found in the Assistance Listing ¹ to which this document applies is 10.904, Watershed Protection and Flood Prevention.

¹ See https://sam.gov/content/assistance-listings.

Executive Order 12372

Executive Order 12372, “Intergovernmental Review of Federal Programs,” requires consultation with State and local officials that would be directly affected by proposed Federal financial assistance. The objectives of the Executive Order are to foster an intergovernmental partnership and a strengthened federalism, by relying on State and local processes for State and local government coordination and review of proposed Federal financial assistance and direct Federal development. This Wellsville Canyon Watershed Plan is subject to the provisions of Executive Order 12372, which requires intergovernmental consultation with State and local officials.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, Braille, large print, audiotape, American Sign Language, etc.) should contact the responsible Agency or USDA TARGET Center at (202) 720-2600 (voice and text telephone) or dial 711 for Telecommunications Relay Service (both voice and text telephone users can initiate this call from any phone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: program.intake@usda.gov.

USDA is an equal opportunity provider, employer, and lender.

Travis Mote,
Acting Utah State Conservationist, Natural Resources Conservation Service.

[FR Doc. 2024-10063 Filed 5-7-24; 8:45 am]

BILLING CODE 3410-16-P